DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Application to Shuck Surf Clams/Ocean Quahogs at Sea.

Form Number(s): None.

OMB Approval Number: 0648-0240.

Type of Request: Regular submission.

Burden Hours: 51.

Number of Respondents: 202.

Average Hours Per Response: 5 minutes.

Needs and Uses: Federally permitted fishing vessels participating in the Atlantic surf clam or ocean quahog individual transferable quota (ITQ) fishery in the Northeast Region of the U.S. are subject to certain information collection requirements. The National Marine Fisheries Service uses the collected information to process requests for the transfer of surf clam or ocean quahog quota shares or authorization to shuck surf clams or ocean quahogs at sea.

Affected Public: Business or other for-profit organizations; individuals or households.

Frequency: As requested by public.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: September 8, 2005.
Gwellnar Banks,
Management Analyst, Office of the Chief Information Officer.

[FR Doc. 05-18188 Filed 9-13-05; 8:45 am]

BILLING CODE 3510-22-P